DEPARTMENT OF TRANSPORTATION

Office of the Secretary

Agency Information Collection; Other Than Those Contained In Proposed Rules or In Current Rules; Transportation for Individuals With Disabilities-Accessibility of Over-the-Road Buses (OTRBs)

AGENCY: Office of the Secretary, DOT.

ACTION: Notice and request for comments.

SUMMARY: In accordance with the Paperwork Reduction Act of 1995 (44 U.S.C. Chapter 35, as amended), this notice announces the Department of Transportation's (DOT) amendment of its Americans with Disabilities Act and Final Rule on Accessibility of Over-the-Road Buses.

DATES: Comments on this notice must be received by April 8, 2002.

ADDRESSES: Comments should be directed to the Assistant General Counsel for Regulation and Enforcement, Office of the Secretary, U.S. Department of Transportation, 400 Seventh Street, SW., Washington, DC 20590.

FOR FURTHER INFORMATION CONTACT: Linda A. Lasley, Attorney-Advisor, Regulation and Enforcement, Office of the General Counsel, U.S. Department of Transportation, 400 Seventh Street, SW., Washington, DC 20590, (202)366-4723.

SUPPLEMENTARY INFORMATION: Title: Transportation For Individuals With Disabilities-Accessibility of Over-the-Road Buses (OTRBs).

OMB Number: 2100-0019.

Type of Request: New Collection.

Affected Public: Bus companies and the disability community.

Abstract: The Department of Transportation (DOT), in conjunction with the U.S. Architectural and Transportation Barriers Compliance Board, issued final access regulations for privately-operated over-the-road buses (OTRBs) as required by the Americans with Disability Act (ADA) of 1990. The final rule has four different recordkeeping/reporting requirements. The first has to do with 48 hour advance notice and compensation. The second has to do with equivalent service and compensation. The third has to do with reporting information on ridership on accessible fixed-route buses. The fourth has to do with reporting information on the purchase and lease of accessible and inaccessible new and used buses. The purpose of the information collection requirements is to provide data that the Department can use in its regulatory review and to assist the Department in its oversight of compliance by bus companies.

Respondents: Charter/Tour Service Operators, Fixed Route Companies, Small Mixed Service Operators.

Estimated Number of Respondents: 3,448.

Average Annual Burden Per Respondent: Variable.

Estimated Total Burden on Respondents: 316,226 hours.

Comments are invited on: (a) Whether the proposed collection of information is necessary for the proper performance of the functions of the Department, including whether the information will have practical utility; (b) the accuracy of the Department's estimate of the burden of the proposed information collection; (c) ways to enhance the quality, utility, and clarity of the information to be collected; and (d) ways to minimize the burden of the collection of information on respondents, including the use of automated collection techniques or other forms of information technology. All responses to this notice, will be summarized and included in the request for OMB approval. All comments will also become a matter of public record.

Issued in Washington, DC on January 30, 2002.
Robert Ashby,
Deputy Assistant General, Counsel for Regulation and Enforcement.

[FR Doc. 02-2724 Filed 2-4-02; 8:45 am]

BILLING CODE 4910-6-P